DEPARTMENT OF THE INTERIOR

Fish and Wildlife Service

Notice of Availability of the Final Comprehensive Conservation Plan and Summary for the Alamosa-Monte Vista National Wildlife Refuges Complex, Alamosa, CO

AGENCY: Fish and Wildlife Service, Department of the Interior.

ACTION: Notice of availability.

SUMMARY: The U.S. Fish and Wildlife Service announces that the final Comprehensive Conservation Plan (CCP) and Summary are available for the Alamosa-Monte Vista National Wildlife Refuges Complex. This CCP, prepared pursuant to the National Wildlife Refuge System Improvement Act of 1997 and the National Environmental Policy Act of 1969, describes how the U.S. Fish and Wildlife Service intends to manage the Complex for the next 15 years.

ADDRESSES: Requests for copies of the CCP or Summary should be addressed to: Alamosa-Monte Vista NWR, 7393 El Rancho Lane, Alamosa, Colorado 81101. Requests may also be submitted via electronic mail to: adam_misztal@fws.gov.

FOR FURTHER INFORMATION CONTACT: Adam Misztal, Planning Team Leader at (303) 236-4383; fax (303) 236-4792 or Mike Blenden, Complex Manager, Alamosa/Monte Vista National Wildlife Refuge Complex (719) 589-4021; fax (719) 587-0595.

SUPPLEMENTARY INFORMATION: Background: Alamosa and Monte Vista National Wildlife Refuges were established under the authority of the Migratory Bird Conservation Act “* * * for use as inviolate sanctuaries, or for any other management purpose, for migratory birds.” The purpose for managing habitats on the Alamosa and Monte Vista National Wildlife Refuge (the Complex) is to provide a biologically diverse area that complements the San Luis Valley (SLV) ecosystem.

Ten different plant communities/habitat types exist on the Complex: upland shrub, tall-emergent, short-emergent, saltgrass, short-grass, shallow seasonal wetland, semipermanent wetland, riparian, riverine, and agriculture. These habitats support a variety of mammals, reptiles, amphibians, and birds. Mammals include coyote, red fox, black bear, mountain lion, bobcat, elk, mule deer, pronghorn, raccoon, mink, American badger, and other small mammals. Birds commonly seen on these Refuges include numerous waterfowl species, including ten that nest on the Complex: mallard, gadwall, cinnamon, green-winged and blue-winged teal, northern pintail, northern shoveler, American wigeon, redheads, and ruddy ducks, and one species of goose (Canada). The Monte Vista NWR (MVNWR) has one of the highest densities of nesting waterfowl in the continent. On average, 15,000 ducks are produced on MVNWR annually, which constitutes a major contribution to the State's population and, subsequently, to the Central Flyway's duck population.

Other birds using the Complex include great blue heron, little blue heron, snowy and cattle egret, sandhill crane, northern harrier, Swainson's hawk, ring-necked pheasant, Ross' goose, black-bellied plover, greater yellowlegs, willet, and Wilson's phalarope. Two endangered species, the whooping crane and southwestern willow flycatcher, and one threatened species, the bald eagle, utilize the Complex. In addition, five species of management concern to the U.S. Fish and Wildlife Service's National Migratory Bird Office also use the Complex: American bittern, black tern, burrowing owl, ferruginous hawk, and white-faced ibis.

The CCP identifies the proposed management of the Alamosa and Monte Vista National Wildlife Refuges in the San Luis Valley of southwestern Colorado. The CCP describes how the habitat management tools, water management, rest, prescribed burning, prescribed grazing, farming, and habitat protection will be used to provide wildlife habitat. Also described is the management of public use, cultural resources, and elk.

Water Management: efforts would focus on improving efficiency of surface water application, monitoring of water usage, better understanding of water rights, historical processes, subsurface and surface interactions, and improving knowledge of groundwater and its role in maintaining wetlands. Better methods and capabilities for monitoring habitat responses to water application will be developed to facilitate an adaptive habitat management program.

Efforts will be taken to restore meandering streambeds and their associated hydrology and riparian habitats on Refuge lands. Although such actions will not have major impacts on either the unconfined or confined aquifers of the Valley, they can positively impact localized groundwater tables and artesian wells, and increase efficiency of irrigation during the following season.

Irrigation systems in all Refuge units will be upgraded as funding allows to enact more precise and efficient management of irrigation water. Currently, wetland vegetation is maintained using flood irrigation practices where water is applied at the highest elevation of a unit from a supply ditch or well head and is allowed to flow across the unit to lower elevations.

Rest: The ratio of periods of rest to disturbance in order to provide the optimum cover of vegetation for nesting ducks and other species is largely unknown for the San Luis Valley and needs to be examined. A successful program will help managers determine when areas of either Refuge need disturbance, the most effective tool to use, and when. An active adaptive management strategy would be implemented. This program would be based on monitoring of prescribed rest to document how different vegetation types respond to different rest strategies. This will allow for increasingly effective application of rest to meet habitat goals.

Prescribed Burning: Management will implement two new initiatives. First, formation of an interagency fire team would be pursued. This idea has been discussed among the various State and Federal land management agencies, but no action has been taken. This team would be responsible for conducting prescribed burns and suppressing wildfires on member agency lands. Secondly, Refuge management will pursue the hiring of additional staff to develop a burn monitoring program and detailed burn criteria in an effort to better understand the impacts of prescribed burning and to better implement its use in meeting management objectives.

Prescribed Grazing: Future use of prescribed grazing on the Refuges will be largely dictated by the results of research currently being conducted. In the future, if and when grazing is used, prescriptions will delineate the location of the site to be grazed and specific objectives and purposes of the tool such as to control weeds, increase new growth, and provide a competitive advantage to certain vegetation. This site-by-site evaluation and planning will allow for maximum control and flexibility of this tool as well as ensuring that only delineated sites are affected by the tool and that all factors and interests are considered.

Farming: Migrating birds will be provided with the same amount of small grain food from crops currently provided. The existing mixed organic/non-organic farming program operated by Refuge staff will be converted to a cooperative farming program. Farming will continue but Refuge staff will only be responsible for irrigation of the crops. The cooperating farmer would continue the crop rotation of two years of small grains followed by two years of alfalfa and then one year fallow.

The cooperating farmer will be allowed to keep all or a portion of the alfalfa crop based on yields of the small grain crops.

Refuge staff will also augment the farming program with a moist soil plant management program to diversify the types of feed available to the birds. The farming and moist soil plant programs would be monitored and managed through the adaptive management concept. Research will be encouraged to help identify the amount and kinds of high energy food sources the Refuge could and should be providing for migrating and wintering avian species.

Habitat Protection: Current support for the Service's Partners for Wildlife program will continue in order to ensure the program's growth and success. The Refuge will also continue to be an active partner in Colorado Wetlands Initiative Legacy project led by the Colorado Division of Wildlife.

Public Use: Educating the public as to the nature and value of wetlands will focus on contrasting the intensely managed wetlands of Monte Vista NWR with the more natural aspects on the Alamosa NWR wetlands. To assure compliance with public use minimum standards, money will be targeted for projects through RONS (Refuge Operating Needs System) and MMS (Maintenance Management System). Currently, funding proposals are developed for projects that will improve the quality of visitor experiences.

Hunting: Current waterfowl and small game hunting will continue to be supported and encouraged. To the extent feasible, the hunting experience will be further tailored to meet the desires of hunters using the Refuges based on periodic questioning of waterfowl hunters and other public input. The limited amount of overnight use currently available in parking lots during waterfowl hunting seasons will be continued.

Fishing: The shallow water in Refuge wetlands does not support a viable fishery. Wetlands either dry up or freeze solid annually which eliminates all fish that have entered the system. Therefore, fishing is not allowed on the Refuges.

Wildlife Observation: Support for the Crane Festival will continue. On the Monte Vista NWR, public and scientific input will be sought regarding the seasonal expansion of the auto tour route, development of wildlife observation sites at Parker Pond, and development of wildlife observation decks along County Road 3E. Opinion and information will also be sought regarding the development of an observation deck adjacent to the Refuge Headquarters at the Alamosa NWR and near the proposed visitor center and education facility at the Monte Vista NWR.

Wildlife Photography: Photography will continue to be allowed, with no additional Refuge support provided to photographers.

Interpretation: A multi-purpose education and visitor center facility on the Monte Vista NWR is the highest educational priority for the Complex. Also, the Refuge staff will implement an interpretation program centered around the cultural resources found on the Complex and around the Valley. Interpretation of past human use will focus on the theme that humans have always, and still depend upon natural resources for survival.

Environmental Education: Volunteer and/or contractor led environmental education programs for local schools will continue to be provided, both as Refuge field trips and classroom presentations.

Universal Access and Design: Developments will include new rest room facilities and wildlife observation blinds and/or platforms. Universally accessible hunting blinds will be built on both Refuges. All of these projects will follow the Americans with Disabilities Accessibility Guidelines.

Cultural Resources: Archaeological work on the Complex will be expanded to include work needed to determine the eligibility of four documented sites for nomination to the National Register of Historic Places. Management will also include a sample archaeological inventory of Refuge lands over a 15-year period.

Elk Management: The resident elk will be managed to discourage their use of Monte Vista NWR in large numbers with the intent to prevent habitat degradation.

Dated: August 29, 2003.
John A. Blankenship,
Deputy Regional Director, Region 6, Denver, Colorado.

[FR Doc. 03-31436 Filed 12-19-03; 8:45 am]

BILLING CODE 4310-55-P